DEPARTMENT OF THE INTERIOR

National Park Service

Delaware Water Gap National Recreation Area Citizen Advisory Commission Meeting

AGENCY: National Park Service; Interior.

ACTION: Notice of meeting.

SUMMARY: This notice announces a public meeting of the Delaware Water Gap National Recreation Area Citizen Advisory Commission. Notice of this meeting is required under the Federal Advisory Committee Act (Public Law 92-463).

Meeting Date and Time: Thursday, October 11, 2001 at 7:00 p.m.

Address: Bushkill Visitor Center, U.S. Route 209, Bushkill, PA 18324.

The agenda will include reports from Citizen Advisory Commission committees. Superintendent Bill Laitner will give a report on various park issues. The meeting will be open to the public and there will be an opportunity for public comment on these issues.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION: Gap National Recreation Area, Bushkill, PA 18324, 570-588-2418.

Dated: June 29, 2001.
William G. Laitner,
Superintendent.

Congressional Listing for Delaware Water Gap NRA

Honorable Jon Corzine, United States Senate, Washington, DC 20510

Honorable Robert G. Torricelli, U.S. Senate, Washington, D.C. 20510-3001

Honorable Richard Santorum, U.S. Senate, SR 120 Senate Russell Office Bldg., Washington, D.C. 20510

Honorable Arlen Specter, U.S. Senate, SH-530 Hart Senate Office Bldg., Washington, D.C. 20510-3802

Honorable Pat Toomey, U.S. House of Representatives, Cannon House Office Bldg., Washington, D.C. 20515

Honorable Don Sherwood, U.S. House of Representatives, 2370 Rayburn House Office Bldg., Washington, D.C. 20515-3810

Honorable Margaret Roukema, U.S. House of Representatives, 2244 Rayburn House Office Bldg., Washington, D.C. 20515-3005

Honorable Tom Ridge, State Capitol, Harrisburg, PA 17120

Honorable Donald DiFrancesco, State House, Trenton, NJ 08625

[FR Doc. 01-17828 Filed 7-16-01; 8:45 am]

BILLING CODE 4310-70-P